UNITED STATES SENTENCING COMMISSION

Request for Applications; Tribal Issues Advisory Group

AGENCY: United States Sentencing Commission.

ACTION: Notice.

SUMMARY: The Commission has decided to establish a Tribal Issues Advisory Group as an ad hoc advisory group pursuant to 28 U.S.C. 995 and Rule 5.4 of the Commission's Rules of Practice and Procedure. Having adopted a formal charter for the Tribal Issues Advisory Group, the Commission is constituting the at-large voting membership of the advisory group under that charter. To be eligible to serve as an at-large voting member, an individual must have expertise, knowledge, and/or experience in the issues considered by the Tribal Issues Advisory Group as indicated in the SUPPLEMENTARY INFORMATION section below. The Commission hereby invites any individual who is eligible to be appointed to the at-large voting membership of the Tribal Issues Advisory Group to apply. Applications should be received by the Commission not later than January 9, 2015. Applications may be sent to the Commission as indicated in the ADDRESSES section below.

DATES: Applications for the at-large voting membership of the Tribal Issues Advisory Group should be received not later than January 9, 2015.

ADDRESSES: Applications for the at-large voting membership of the Tribal Issues Advisory Group should include a letter of interest and resume, and be sent to the Commission by electronic mail or regular mail. The email address is pubaffairs@ussc.gov. The regular mail address is United States Sentencing Commission, One Columbus Circle NE., Suite 2-500, South Lobby, Washington, DC 20002-8002, Attention: Public Affairs.

FOR FURTHER INFORMATION CONTACT: Jeanne Doherty, Public Affairs Officer, 202-502-4502, jdoherty@ussc.gov. More information about the Tribal Issues Advisory Group (including the advisory group charter) is available on the Commission's Web site at www.ussc.gov/advisory-groups.

SUPPLEMENTARY INFORMATION: The United States Sentencing Commission is an independent agency in the judicial branch of the United States Government. The Commission promulgates sentencing guidelines and policy statements for federal sentencing courts pursuant to 28 U.S.C. 994(a). The Commission also periodically reviews and revises previously promulgated guidelines pursuant to 28 U.S.C. 994(o) and submits guideline amendments to the Congress not later than the first day of May each year pursuant to 28 U.S.C. 994(p). Under 28 U.S.C. 995 and Rule 5.4 of the Commission's Rules of Practice and Procedure, the Commission may create standing or ad hoc advisory groups to facilitate formal and informal input to the Commission. Upon creating an advisory group, the Commission may prescribe the policies regarding the purpose, membership, and operation of the group as the Commission deems necessary or appropriate.

The Commission recently adopted a formal charter for the Tribal Issues Advisory Group. Under the charter, the purpose of the advisory group is:

(1) To assist the Commission in carrying out its statutory responsibilities under 28 U.S.C. 994(o);

(2) to provide to the Commission its views on federal sentencing issues relating to American Indian defendants and victims and to offenses committed in Indian Country;

(3) to study:

(A) the operation of the federal sentencing guidelines as they relate to American Indian defendants and victims and to offenses committed in Indian Country, and any viable methods for revising the guidelines to (i) improve their operation or (ii) address particular concerns of tribal communities and courts;

(B) whether there are disparities in the application of the federal sentencing guidelines to American Indian defendants, and, if so, how to address them;

(C) the impact of the federal sentencing guidelines on offenses committed in Indian Country in comparison with analogous offenses prosecuted in state courts and tribal courts;

(D) the use of tribal court convictions in the computation of criminal history scores, risk assessment, and for other purposes;

(E) how the federal sentencing guidelines should account for protection orders issued by tribal courts; and

(F) any other issues relating to American Indian defendants and victims, or to offenses committed in Indian Country, that the advisory group considers appropriate;

(4) to recommend to the Commission means to establish regular and meaningful consultation and collaboration with tribal officials in the development of sentencing policies that have tribal implications; and

(5) to perform any other related functions as the Commission requests.

The Tribal Issues Advisory Group shall consist of no more than 17 voting members. Of those 17 voting members, not more than 3 shall be Federal judges, not more than 4 shall be from the Executive Branch, 1 shall be from a federal public defender organization or community defender organization, and not more than 9 shall be at-large members. Each voting member is appointed by the Commission. To be eligible to serve as an at-large voting member, an individual must have expertise, knowledge, and/or experience in the issues considered by the Tribal Issues Advisory Group as described above. The Commission intends that the at-large voting membership shall include individuals with membership in or experience with tribal communities, national advocacy groups, legal academia (with expertise in Indian Law and Federal Criminal Law), legal practice (with expertise in Indian Law and Federal Criminal Law, including public or private criminal defense), American Indian crime victimization, federal probation, and federal corrections. The Commission further intends that: (1) No less than 3 at-large voting members shall be tribal officials, or their designees, appointed in a manner that ensures representation among tribal communities diverse in size, geographic location, and other unique characteristics; (2) no less than 2 at-large voting members shall be attorneys with experience in public or private criminal defense; and (3) no less than 1 at-large voting member shall be an individual with knowledge, expertise, and/or experience in the area of American Indian crime victimization.

The Commission invites any individual who is eligible to be appointed to the at-large voting membership of the Tribal Issues Advisory Group to apply by sending a letter of interest and a resume to the Commission as indicated in the ADDRESSES section above.

Authority: 28 U.S.C. 994(a), (o), (p), § 995; USSC Rules of Practice and Procedure 5.2, 5.4.

Patti B. Saris,
Chair.

[FR Doc. 2014-28155 Filed 11-26-14; 8:45 am]

BILLING CODE 2210-40-P